DEPARTMENT OF AGRICULTURE

Food and Nutrition Service

Agency Information Collection Activities: Proposed Collection; Comment Request; Understanding the Relationship Between Poverty, Well-Being and Food Security

AGENCY: Food and Nutrition Service (FNS), USDA.

ACTION: Notice.

SUMMARY: In accordance with the Paperwork Reduction Act of 1995, this notice invites the general public and other public agencies to comment on this proposed information collection. This new collection will provide the U.S. Department of Agriculture, Food and Nutrition Service with new information about food security and individual and family circumstances and environmental factors related to poverty in six persistently poor counties.

DATES: Written comments must be received on or before December 12, 2022.

ADDRESSES: Comments may be mailed to Michael Burke, Senior Social Science Research Analyst, Food and Nutrition Service, Braddock Metro Center II, 1320 Braddock Place, Alexandria, VA 22314. Comments may also be submitted via email to michael.burke@usda.gov. Comments will also be accepted through the Federal eRulemaking Portal. Go to http://www.regulations.gov and follow the online instructions for submitting comments electronically.

All written comments will be open for public inspection at the office of the Food and Nutrition Service during regular business hours (8:30 a.m. to 5:00 p.m.), Monday through Friday at Braddock Metro Center II, 1320 Braddock Place, Alexandria, VA 22314.

All responses to this notice will be summarized and included in the request for Office of Management and Budget approval. All comments will be a matter of public record.

FOR FURTHER INFORMATION CONTACT: Requests for additional information or copies of this information collected should be directed to Michael Burke by email at michael.burke@usda.gov or by phone at (703) 305-4369.

SUPPLEMENTARY INFORMATION: Comments are invited on the following topics: (1) whether the proposed collection of information is necessary for the proper performance of the functions of the agency, including whether the information shall have practical utility; (2) the accuracy of the agency's estimate of the burden on the proposed collection of information, including the validity of the methodology and assumptions that were used; (3) ways to enhance the quality, utility, and clarity of the information collected; and (4) ways to minimize the burden of the collection of information on those who are to respond, including use of appropriate automated, electronic, mechanical, or other technological collection techniques or other forms of information technology.

Title: Understanding the Relationship Between Poverty, Well-Being, and Food Security.

Form Number: Not applicable.

OMB Number: 0584-NEW.

Expiration Date: Not yet determined.

Type of Request: New collection.

Abstract: This is a new information collection request. The Supplemental Nutrition Assistance Program (SNAP) is the nation's largest federal program aimed at reducing food insecurity and increasing access to healthy food. SNAP is administered by the U.S. Department of Agriculture's (USDA), Food and Nutrition Service (FNS) and provides nutrition assistance benefits to program participants, the majority of whom are children, the elderly, or people with disabilities. Through this data collection effort, FNS seeks to understand the interrelated factors that lead to household food insecurity. Data will be collected in six counties experiencing persistent intergenerational poverty through a study titled Understanding the Relationship Between Poverty, Well-Being, and Food Security.

Understanding the Relationship Between Poverty, Well-Being, and Food Security will allow FNS to gain a deeper understanding of the interrelated factors that affect the food security status of SNAP beneficiaries and SNAP-eligible nonparticipants, information which has not previously collected in persistently poor counties. The USDA's Economic Research Service (ERS) defines counties as being persistently poor if 20 percent or more of county residents were poor at each of several points in time over a 30-year period, measured by the 1980, 1990, and 2000 censuses and the 2007-2011 American Community Survey. Examining food insecurity and poverty in these populations will help FNS better understand the association between SNAP, other USDA-administered programs, and community-based assistance with well-being and the food environment. Study objectives include:

• Objective 1: Produce descriptive statistics on key sociodemographic and economic variables, including household food security in a representative sample of all residents in each of six persistent-poverty counties.

• Objective 2: Produce descriptive statistics on key sociodemographic and economic variables, including household food insecurity in two representative stratified subsamples of low and very low food-secure residents, in each county of six persistent-poverty counties.

• Objective 3: Produce descriptive statistics for each subgroup in each county on key social, geospatial, and other policy-actionable elements of well-being and material deprivation associated with both household food security and SNAP participation.

• Objective 4: Characterize the social context and the life course of individuals, within a multigenerational family unit, as they define their experiences with food insecurity through In-Depth Interviews (IDIs).

To ensure a representative probability sample of households in each of the six persistent poverty counties (each located within six different states) we propose a two-stage address-based sampling (ABS) approach in which the primary sampling units (PSUs) will be small geographic clusters consisting of census-defined blocks or groups of blocks within the country, and the secondary sampling units will be residential addresses within the selected PSUs. We will use American Community Survey (ACS) and SNAP administrative data to obtain an estimate of SNAP-eligibility by PSU. The study includes several data collection activities: (1) SNAP administration data; (2) a household survey; (3) in-depth interviews with household survey respondents; and (4) focus groups with community stakeholders.

Affected Public: Respondent groups identified include: (a) Individual/Households (county residents in the six selected counties); (b) Business—Profit, Non-Profit, or Farm (community stakeholder focus group participants); (c) State, Local, or Tribal Government (State/County SNAP agencies).

Estimated Number of Respondents: 15,997. The total estimated number of individuals/households (I/H) initially contacted is 15,840. Out of the initial number of I/H contacted 6,600 respondents will be surveyed, and a subsample of 156 respondents will participate in an in-depth interview. A total of 48 community stakeholders will participate in focus groups—36 Business (Profit, Non-Profit, or Farm) and 12 State, Local, or Tribal Government. 38 police stations (State, Local, or Tribal Government) will receive notifications that field staff are working in the area. In addition, 6 State SNAP agencies and 1 County SNAP agency (State, Local, or Tribal Government) will be asked to provide SNAP administrative data once to support development of the survey sampling frame. All 7 are expected to respond.

Estimated Number of Responses per Respondent: All respondents will be asked to respond to each specific data collection activity only once. County residents will be asked to participate in one survey; a subset of interview respondents will be asked to participate in one in-depth interview. Community stakeholders will be asked to participate in one focus group, and SNAP agency will be asked to complete one data request. The estimated number of responses is 5.8 responses per respondent, including all contact materials.

Estimated Total Annual Responses: The estimate total annual responses is 115,347 (86,894 respondents and 28,453 non-respondents).

Estimated Time per Response: The estimated time of response varies from 1 minute (0.0167 hours) to 8 hours, depending on respondent group, as shown in the table below, with an average estimated time of 0.0673 hours for all participants.

Estimated Total Annual Burden on Respondents: 465,761 minutes (7,763 hours). See the table below (Table 1) for estimated total annual burden for each type of respondent.

BILLING CODE 3410-30-P

Tameka Owens,
Assistant Administrator, Food and Nutrition Service.

[FR Doc. 2022-22149 Filed 10-11-22; 8:45 am]

BILLING CODE 3410-30-C